DEPARTMENT OF JUSTICE

Notice of Lodging Proposed Consent Decree; Corrected Notice

In accordance with Departmental Policy, 28 CFR 50.7, notice is hereby given that a proposed consent decree in United States v. Dyer, Civil Action No. 00CV11013 (D. Mass.), was lodged with the United States District Court for the District of Massachusetts on May 23, 2000. This notice corrects an inadvertent error in the notice published on June 9, 2000 at 65 FR 36716. That Notice omitted the phrase, “three thousand dollars ($3,000) at the three year anniversary of the date of entry.” This proposed Consent Decree concerns a complaint filed by the United States against Bruce S. Dyer and the Holly Farms Nominee Trust, pursuant to section 301(a) of the Clean Water Act, 33 U.S.C. 1311(a), to obtain injunctive relief from, and impose civil penalties against the Defendants for the discharge of pollutants into the waters of the United States at portions of an approximately 107 acre parcel of land located at 36 Holly Lane in Bridgewater, Massachusetts where a cranberry farm now exists.

The proposed Consent Decree prohibits the discharge of pollutants into waters of the United States without authorization by the United States Department of the Army Corps of Engineers and requires Defendants, at their own expense and at the direction of EPA, to restore and/or mitigate the damages caused by their unlawful activities. This proposed Consent Decree further requires Defendants to pay civil penalties to the United States as follows: two thousand dollars ($2,000) within thirty (30) days of the date of entry of this Consent Decree; three thousand dollars ($3,000) at the one year anniversary of the date of entry; three thousand dollars ($3,000) at the two year anniversary of the date of entry; three thousand dollars ($3,000) at the three year anniversary of the date of entry; and four thousand dollars ($4,000) at the four year anniversary of the date of entry.

The Department of Justice will accept written comments relating to this proposed Consent Decree for thirty (30) days from the date of publication of this corrected notice. Please address comments to Jon M. Lipshultz, Environment and Natural Resources Division, Environmental Defense Section, U.S. Department of Justice, P.O. Box 23986, Washington, DC 20026-3986 and refer to United States v. Dyer, DJ # 90-5-1-1-05400/1.

The proposed Consent Decree may be examined at the Clerk's Office, United States District Court for the District of Massachusetts, 2300 United States Courthouse, One Courthouse Way, Boston, MA 02210-3002.

Letitia J. Grishaw,
Chief Environmental Defense Section Environment & Natural Resources Division.

[FR Doc. 00-17397 Filed 7-10-00; 8:45 am]

BILLING CODE 4410-15-M